DEPARTMENT OF THE TREASURY

Office of Foreign Assets Control

Notice of OFAC Sanctions Action

AGENCY: Office of Foreign Assets Control, Treasury.

ACTION: Notice.

SUMMARY: The U.S. Department of the Treasury's Office of Foreign Assets Control (OFAC) is publishing the name of a person whose property and interests in property have been unblocked and who has been removed from the Specially Designated Nationals and Blocked Persons List (SDN List). U.S. persons are no longer generally prohibited from engaging in transactions with them.

DATES: See Supplementary Information section for applicable dates(s).

FOR FURTHER INFORMATION CONTACT: OFAC: Bradley Smith, Director, tel.: 202-622-2490; Associate Director for Global Targeting, tel.: 202-622-2420; Assistant Director for Licensing, tel.: 202-622-2480; Assistant Director for Regulatory Affairs, tel.: 202-622-4855; or Assistant Director for Sanctions Enforcement, Compliance & Analysis, tel.: 202-622-2490.

SUPPLEMENTARY INFORMATION:

Electronic Availability

The SDN List and additional information concerning OFAC sanctions programs are available on OFAC's website (ofac.treasury.gov).

Notice of OFAC Action

On July 18, 2024, OFAC determined that the following person, who had been designated pursuant to Executive Order 13224 of September 23, 2001, “Blocking Property and Prohibiting Transactions With Persons Who Commit, Threaten to Commit, or Support Terrorism” should be removed from the SDN List and that the property and interests in property subject to U.S. jurisdiction of the following person are unblocked. All otherwise lawful transactions involving U.S. persons and the following person are no longer prohibited.

Individual

1. AWAD, Mohammed Reda Mohammed Anwar (a.k.a. AWAD, Hamid Rida Muhammad; a.k.a. “AWAD, Rida”; a.k.a. “REDA, Haj”), United Kingdom; DOB 24 Sep 1954; nationality Egypt (individual) [SDGT] (Linked To: HAMAS).

Dated: July 18, 2024.
Bradley T. Smith,
Director, Office of Foreign Assets Control, U.S. Department of the Treasury.

[FR Doc. 2024-16133 Filed 7-22-24; 8:45 am]

BILLING CODE P